DEPARTMENT OF COMMERCE

International Trade Administration

[A-570-848]

Freshwater Crawfish Tail Meat From the People's Republic of China: Initiation of Antidumping Duty New Shipper Review

AGENCY: Import Administration, International Trade Administration, Department of Commerce.

SUMMARY: The Department of Commerce (the Department) has received a timely request to conduct a new shipper review of the antidumping duty order on freshwater crawfish tail meat from the People's Republic of China (“PRC”). In accordance with section 751(a)(2)(B) of the Tariff Act of 1930, as amended (the Act), and 19 CFR 351.214(d), we are initiating this new shipper review for Shanghai Ocean Flavor International Trading Co., Ltd. (Shanghai Ocean Flavor) and its producer Jiangxi Quanfu Aquatic Foods Co., Ltd. (Jiangxi Quanfu).

EFFECTIVE DATE: May 6, 2003.

FOR FURTHER INFORMATION CONTACT: Thomas Gilgunn or Addilyn Chams-Eddine, AD/CVD Enforcement, Import Administration, International Trade Administration, U.S. Department of Commerce, 14th Street and Constitution Avenue, N.W., Washington, D.C. 20230; telephone: (202) 482-4236 or (202)482-0648, respectively.

Background

On March 28, 2003, the Department received a timely request from Shanghai Ocean Flavor, in accordance with section 751(a)(2)(B) of the Act and 19 CFR 351.214(c), for a new shipper review of this antidumping duty order on freshwater crawfish tail meat from the People's Republic of China (“PRC”), which has a September anniversary date and a March semiannual anniversary date.

As required by 19 CFR 351.214(b)(2)(ii) and (iii)(A), Shanghai Ocean Flavor, an exporter of crawfish tail meat, has certified that it did not export freshwater crawfish tail meat to the United States during the period of investigation (“POI”), and that it has never been affiliated with any exporter or producer which exported freshwater crawfish tail meat to the United States during the POI. In addition, the producer, Jiangxi Quanfu, certified that it did not export freshwater crawfish tail meat to the United States and that it has never been affiliated with any exporter or producer who exported the subject merchandise to the United States during the POI. Shanghai Ocean Flavor has further certified, pursuant to the requirements of CFR 19 351.214(b)(2)(iii) (B), that its export activities are not controlled by the central government of the PRC.

Pursuant to 19 CFR 351.214(b)(2)(iv), Shanghai Ocean Flavor submitted documentation establishing the date on which it first shipped the subject merchandise to the United States, the date of entry of the first shipment, the volume of that shipment, and the date of the first sale to an unaffiliated customer in the United States. Shanghai Ocean Flavor provided the same documentation for its one subsequent shipment.

After reviewing the submissions with respect to the new shipper review request filed on behalf of Shanghai Ocean Flavor and Jiangxi Quanfu, the Department has found that the requirements set forth in 19 CFR 351.214(b) for the initiation of a new shipper review have been met.

Initiation of Review

In accordance with section 751(a)(2)(B)(ii) of the Act and 19 CFR 351.214(d)(1), we are initiating a new shipper review of the antidumping duty order on freshwater crawfish tail meat from the PRC. Based on our analysis of the information and documentation provided with the new shipper review request, as well as our analysis of proprietary import data from the U.S. Bureau of Customs and Border Protection (“BCBP”), we intend to carefully examine the bona fides of Shanghai Ocean Flavor's U.S. sales during the course of this new shipper review. We intend to issue the preliminary results of the review no later than180 days after the date on which the review is initiated.

In accordance with 19 CFR 351.214(g)(1)(i)(B), the period of review (“POR”) for a new shipper review, initiated in the month immediately following the semiannual anniversary month, will be the six-month period immediately preceding the semiannual anniversary month. Therefore, the POR for this new shipper review is:

Antidumping duty proceeding | Period to be reviewed
Freshwater Crawfish Tail Meat from the PRC: | 09/01/02-02/28/03
Shanghai Ocean Flavor International Trading Co., Ltd.
Jiangxi Quanfu Aquatic Foods Co., Ltd.

We will instruct the BCBP to allow, at the option of the importer, the posting, until the completion of the review, of a bond in lieu of a cash deposit for each entry of the merchandise exported by Shanghai Ocean Flavor. This action is in accordance with 19 CFR 351.214(e). We will apply the bonding option under 19 CFR 351.107(b)(1)(i) only to entries of subject merchandise exported by Shanghai Ocean Flavor for which Jiangxi Quanfu, the producer under review, is the supplier.

The interested parties that need access to proprietary information in this new shipper review should submit applications for disclosure under administrative protective order in accordance with 19 CFR 351.305 and 19 CFR 351.306.

This initiation and notice are in accordance with sections 751(a)(2)(B) of the Act (19 U.S.C.1675(a)) and 19 CFR 351.214(d).

Dated: April 30, 2003.
Barbara E. Tillman,
Acting Deputy Assistant Secretary for Import Administration, Group III.

[FR Doc. 03-11173 Filed 5-5-03; 8:45 am]

BILLING CODE 3510-DS-S